DEPARTMENT OF AGRICULTURE

Cancellation of a Notice of Intent To Prepare an Environmental Impact Statement

AGENCY: Forest Service, USDA.

ACTION: Cancellation of a notice of intent to prepare an environmental impact statement.

SUMMARY: The original Notice of Intent to prepare an Environmental Impact Statement (EIS) was published in the Federal Register on 17 March 2003 in Vol. 68, No. 51 on page 12661,for the Manti-La Sal National Forest regarding Fortuna Company Gas Exploration Wells, Emery and Sanpete Counties, Utah.

The Forest Supervisor has determined that the preparation of an EIS is not needed. It has been determined that two Environmental Assessments, one for each proposed well, is adequate.

The proposed wells, designated the Joe's Valley Federal 20-1, and Lowery Water Federal 32-12, were proposed by Fortuna US (proponent). The proposed Joe's Valley Federal 20-1 is located in NW ¼ Sec 21 T.15S, R6E. SLBM, Sanpete County, Utah. The Lowery Water Federal 32-12 is located in SW ¼ Sec 32 T. 16 S, R. 6 E., SLBM, Emery County, Utah.

ADDRESSES: Send written comments to Forest Supervisor, Ferron/Price Ranger District, Manti-La Sal National Forest, 115 West Canyon Road, P.O. Box 310, Ferron, Utah 84523, ATTN: Tom Lloyd.

FOR FURTHER INFORMATION CONTACT: Questions concerning the proposed action and EAs should be addressed to Tom Lloyd or Carter Reed, Manti-La Sal National Forest, phone (435) 384-2372 or (435) 637-2817.

Dated: June 15, 2004.
Alice B. Carlton,
Forest Supervisor, Manti-La Sal National Forest.

[FR Doc. 04-15279 Filed 7-6-04; 8:45 am]

BILLING CODE 3410-11-M